DEPARTMENT OF HEALTH AND HUMAN SERVICES

Centers for Disease Control and Prevention

[Docket No. CDC-2018-0110; NIOSH-224]

Barriers to Participation in the NIOSH Coal Workers Health Surveillance Program

AGENCY: Centers for Disease Control and Prevention, HHS.

ACTION: Request for information.

SUMMARY: The Coal Workers' Health Surveillance Program (CWHSP or Program), administered by CDC's National Institute for Occupational Safety and Health (NIOSH), is seeking information from coal miners, miner advocates, unions, industry stakeholders, and other interested parties about barriers to participating in health screening offered by the Program to inform efforts to improve participation.

DATES: Comments must be received by January 14, 2019.

ADDRESSES: Written comments: Comments may be submitted electronically, through the Federal eRulemaking Portal: http://www.regulations.gov, or by sending a hard copy to the NIOSH Docket Office, Robert A. Taft Laboratories, MS-C34, 1090 Tusculum Avenue, Cincinnati, OH 45226. All written submissions received must include the agency name (Centers for Disease Control and Prevention, HHS) and docket number (CDC-2018-0110; NIOSH-224) for this action. All relevant comments, including any personal information provided, will be posted without change to http://www.regulations.gov.

FOR FURTHER INFORMATION CONTACT: Cara N. Halldin, NIOSH Coal Workers' Health Surveillance Program, Respiratory Health Division, 1095 Willowdale Road, MS HG900.2, Morgantown, WV 26505-2888; (304) 285-5754 (this is not a toll-free number); challdin@cdc.gov.

SUPPLEMENTARY INFORMATION:

The NIOSH Coal Workers' Health Surveillance Program was authorized by the Coal Mine Health and Safety Act of 1969, as amended by the Federal Mine Safety and Health Act of 1977 (30 U.S.C. 801 et seq.), to detect dust-induced interstitial lung disease (black lung or coal workers' pneumoconiosis) and prevent its progression in individual miners, and obtain information about temporal and geographic trends across the population of coal miners. Through the Program, coal miners are offered periodic health screenings, including chest x-rays and spirometry examinations, at no cost to them. These screenings can potentially detect early signs of black lung. NIOSH has administered the Program since 1970. Since that time, the prevalence of radiographic evidence of pneumoconiosis among participating coal miners reached its lowest level in the late 1990s, but has steadily increased since 2000 and is now at a 25-year high. In the Appalachian coal mining states of Kentucky, Virginia, and West Virginia, as many as one in five underground coal miners with more than 25 years' tenure are thought to have radiographic evidence of pneumoconiosis.¹ Participation by coal miners in the CWHSP is voluntary, and about 35 percent of active coal miners participate in health screenings offered by the Program.²

¹ Blackley DJ, Halldin CN, Laney AS [2018]. Continued increase in prevalence of coal workers' pneumoconiosis in the United States, 1970-2017. AJPH 108(9):1220-1222.

² Id.

Greater participation in the Program would provide more opportunities for early detection of pneumoconiosis in coal miners, providing those with early disease the ability to take action to reduce the chance for progression to severe lung disease. In order to identify ways to improve participation in the Program, NIOSH is seeking information from all interested parties, especially active coal miners, as well as miner advocates, unions, industry stakeholders, and healthcare providers of screening services for the CWHSP, to learn about the factors that keep miners from participating in the health screening examinations that are available to them.

NIOSH is particularly interested in receiving information about the following questions:

1. Are coal miners aware that periodic health screenings are available, at no cost to them, through the Coal Workers' Health Surveillance Program?

2. Is lack of convenience of the screening—for example, screening locations or hours of availability—a barrier to participation? If yes, please describe those factors that may prevent miners from accessing CWHSP screenings.

3. NIOSH's mobile surveillance unit travels to different locations to provide free black lung screenings, including chest x-rays and spirometry tests.³ Does the mobile unit provide a useful supplement to services offered by approved healthcare facilities engaged by mine operators? If yes, please explain why mobile outreach is a useful supplement. If no, or if mobile outreach could be improved, please provide recommendations on how it could become more useful to the coal mining community.

³ See https://www.cdc.gov/niosh/topics/cwhsp/free-screening/wv.html.

4. Do coal miners receive encouragement to participate (or discouragement from participating) in the CWHSP screenings from others such as employers, unions, or co-workers? If so, please describe.

5. Are scheduling issues, such as the need to take unpaid time off from work or use vacation hours or non-work hours for health screenings, a barrier to miners' participation in health screenings? If yes, please explain the scheduling issue that is a barrier and provide recommendations for how it could be overcome.

6. Does concern about the confidentiality of medical information pose a barrier to participation? If this is a barrier, then please provide recommendations or suggestions for how it can be overcome.

7. Does concern that the early identification of dust-related lung disease might adversely affect a miner's career (e.g., prevent career advancement or the ability to get a new coal mining job) pose a barrier to participation? If this is a barrier, then please provide recommendations or suggestions for how it can be overcome.

8. Does concern that early identification of dust-related lung disease might affect subsequent eligibility for compensation through Federal or State programs pose a barrier to participation? If this is a barrier, then please describe the specific compensation programs and how eligibility for them can be affected by early detection of dust-related lung disease. Please also provide recommendations or suggestions for how this barrier could be overcome.

9. Does concern that personal finances will require a miner to continue working despite early identification of dust-related lung disease pose a barrier to participation? If this is a barrier, please provide recommendations or suggestions for how it can be overcome.

10. Are there any other barriers to participation that NIOSH should be aware of?

Interested parties may participate in this activity by submitting written views, opinions, recommendations, and data. Comments received, including attachments and other supporting materials, are part of the public record and subject to public disclosure. Do not include any information in your comment or supporting materials that you do not wish to be disclosed. Although your name, contact information, or other information that identifies you in the body of your comments will be on public display, NIOSH will review all submissions and may choose to redact or withhold submissions containing private or proprietary information such as Social Security numbers, medical information, and/or inappropriate language. Comments may be submitted on any topic related to this action. All public comments will be posted in the docket for this action at https://www.regulations.gov.

John J. Howard,
Director, National Institute for Occupational Safety and Health, Centers for Disease Control and Prevention.

[FR Doc. 2018-24700 Filed 11-9-18; 8:45 am]

BILLING CODE 4163-19-P